DEPARTMENT OF HOUSING AND URBAN DEVELOPMENT

[Docket No. FR-7071-N-10]

60-Day Notice of Proposed Information Collection; Housing Counseling Homeownership Initiative Notice of Funding Opportunity (HI NOFO); OMB Control No.: 2502-NEW

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 30, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Colette Pollard, Reports Management Officer, REE, Department of Housing and Urban Development, 451 7th Street SW, Washington, DC 20410; email; Colette.Pollard@hud.gov or telephone 202-402-3400. This is not a toll-free number. HUD welcomes and is prepared to receive calls from individuals who are deaf or hard of hearing, as well as individuals with speech or communication disabilities. To learn more about how to make an accessible telephone call, please visit: https://www.fcc.gov/consumers/guides/telecommunications-relay-service-trs. Copies of available documents submitted to OMB may be obtained from Ms. Pollard.

SUPPLEMENTARY INFORMATION: This notice informs the public that HUD is seeking approval from OMB for the information collection described in Section A.

A. Overview of Information Collection

Title of Information Collection: Housing Counseling Homeownership Initiative Notice of Funding Opportunity (HI NOFO).

OMB Approval Number: 2502-NEW.

OMB Expiration Date: None.

Type of Request: New collection.

Form Numbers: HUD-91045; HUD-424-B; HUD-50153; HUD-2880; SF-LLL; SF-424.

Description of the need for the information and proposed use: The HUD Office of Housing Counseling will use the information collected to objectively evaluate grant applicants on how well they will be able to meet the selection factors set forth in the new Homeownership Initiative Notice of Funding Opportunity, hereinafter HI-NOFO, based on their history of performance and on their responses to questions. The collection will also serve to monitor selected applicants or grantees to assess compliance and effectiveness. This collection of information is required for the award of the HI NOFO grant program in furtherance of HUD's mission to increase homeownership rates among historically underserved communities. The grant program looks to deliver measurable outcomes by awarding funds to HUD-approved Intermediaries, Multi-State Organizations, and State and Local government Housing Finance Agencies who have demonstrated experience providing culturally sensitive, linguistically appropriate pre- and post-purchase housing counseling. Selected agencies will provide independent, expert, and customized guidance to help underserved communities. The NOFO specific information is collected via the new form HUD-90145 (Homeownership Initiative Chart). All other forms that are part of this collection are mandatory OMB or HUD standard grant application forms.

This review is necessary to support HUD participating agencies who are seeking to increase the homeownership rate among historically underserved communities and stop or reverse the increasing homeownership gap resulting from the effects of the COVID-19 pandemic and resulting shortage of affordable homes within those communities. These agencies will provide targeted counseling, outreach to members of their communities as well as seek partnerships with other agencies to help individuals and families achieve sustainable homeownership, no matter their race, ethnicity, disability status, or other protected class.

Respondents: HUD-approved non-profit HUD National and Regional Intermediaries (Intermediaries), Multi-State Organizations (MSOs), and State Housing Finance Agencies (SHFAs).

Estimated Number of Respondents: 56.

Estimated Number of Responses: 341.

Frequency of Response: Annually.

Average Hours per Response: 8.7.

Total Estimated Burden: 2,968 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on respondents, including through the use of appropriate automated collection techniques or other forms of information technology, e.g., permitting electronic submission of responses.

HUD encourages interested parties to submit comments in response to these questions.

C. Authority

Section 3507 of the Paperwork Reduction Act of 1995 (44 U.S.C. 3507).

Jeffrey D. Little,
General Deputy Assistant Secretary for Housing.

[FR Doc. 2023-18643 Filed 8-29-23; 8:45 am]

BILLING CODE 4210-67-P